FEDERAL ELECTION COMMISSION

Sunshine Act Meetings

TIME AND DATE: Thursday, February 17, 2022 at 10:00 a.m.

PLACE: Virtual meeting. Note: Because of the COVID-19 pandemic, we will conduct the open meeting virtually. If you would like to access the meeting, see the instructions below.

STATUS: This meeting will be open to the public. To access the virtual meeting, go to the commission's website www.fec.gov and click on the banner to be taken to the meeting page.

MATTERS TO BE CONSIDERED:

Audit Division Recommendation Memorandum on the Democracy Engine, Inc., PAC (A19-18)

Proposed Rule of Agency Procedure Concerning the Treatment of Foreign State Respondents at the Initiation of the Enforcement Process

Management and Administrative Matters

CONTACT PERSON FOR MORE INFORMATION: Judith Ingram, Press Officer, Telephone: (202) 694-1220.

(Authority: Government in the Sunshine Act, 5 U.S.C. 552b)

Laura E. Sinram,
Acting Secretary and Clerk of the Commission.

[FR Doc. 2022-03059 Filed 2-9-22; 4:15 pm]

BILLING CODE 6715-01-P